DEPARTMENT OF THE INTERIOR

Geological Survey

National Earthquake Prediction Evaluation Council

AGENCY: U.S. Geological Survey, Department of the Interior.

ACTION: Notice of Meeting.

SUMMARY: Pursuant to Public Law 96-472, the National Earthquake Evaluation Council (NEPEC) will hold a 1-day workshop on May 18, 2007, and a short meeting on May 19, 2007. The workshop will be held at the Portland State Office Building, 1st Floor, Room 1D, 800 NE Oregon Street, Lloyd District, Portland, Oregon. On May 19, the short meeting will be held at the Double Tree Hotel, Lloyd Center, 1000 NE Multnomah, Portland, Oregon. The Committee is comprised of members from academia and the Federal Government. The Committee shall advise the Director of the U.S. Geological Survey (USGS) on proposed earthquake predictions, on the completeness and scientific validity of the available data related to earthquake predictions, and on related matters as assigned by the Director.

At the 1-day workshop on May 18, the Committee will discuss with scientific experts the evidence for and nature of episodic nonvolcanic tremor and aseismic creep events and their possible relation to seismic slip on the Cascadia subduction interface and will discuss with emergency managers how the aseismic slip events and other earthquake-related phenomena in Cascadia should be communicated to the public. At the meeting on May 19, the Committee will review the workshop findings and compose recommendations to the USGS on what type of public information might be most appropriate and effective when episodic tremor and creep events are detected, and the Committee will receive brief updates on previous discussion topics.

Workshops and meetings of the National Earthquake Prediction Evaluation Council are open to the public. A draft workshop agenda is available on request (contact information below). In order to ensure sufficient seating and hand-outs, it is requested that visitors pre-register by May 11. Members of the public wishing to make a statement to the Committee should state that intentions so that time may be allotted in the agenda.

DATES: May 18, 2007, commencing at 8:30 a.m. and adjourning at 5 p.m., and May 19, 2007, commencing at 8 a.m. and adjourning at noon.

Contact: Dr. Michael Blanpied, Executive Secretary, National Earthquake Prediction Evaluation Council, U.S. Geological Survey, MS 905, 12201 Sunrise Valley Drive, Reston, Virginia 20192, (703) 648-6696, mblanpied@usgs.gov.

Dated: May 8, 2007.
Linda Gundersen,
Acting Associated Director for Geology.

[FR Doc. 07-2357 Filed 5-10-07; 8:45 am]

BILLING CODE 4311-AM-M